ENVIRONMENTAL PROTECTION AGENCY

[EPA-HQ-OPP-2015-0296; FRL-9928-54]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products containing the pesticides carfentrazone-ethyl, chlorsulfuron, dichlorprop-p, flufenpyr-ethyl, flutolanil, glyphosate, metsulfuron, MGK 264, paraquat dichloride, piperonyl butoxide, propoxur, pyrethrins, quizalofop, thifensulfuron-methyl, and tribenuron-methyl and to amend their malathion, propoxur, and sulfur dioxide product registrations to terminate one or more uses. The requests are to terminate the malathion use in or on cull fruits and vegetable dumps and terminate the sulfur dioxide use in or on grapes. The request would also terminate all indoor aerosol, spray, and liquid formulations of propoxur, terminate its use in food handling establishments, and terminate indoor crack and crevice use. The requests do not seek to cancel the last carfentrazone-ethyl, chlorsulfuron, dichlorprop-p, flutolanil, glyphosate, metsulfuron, MGK 264, paraquat dichloride, piperonyl butoxide, propoxur, pyrethrins, quizalofop, thifensulfuron-methyl, and tribenuron-methyl products registered for use in the United States. The requests, if granted, would terminate the last flufenpyr-ethyl products registered in the United States. EPA intends to grant these requests at the close of the comment period for this announcement unless the Agency receives substantive comments within the comment period that would merit its further review of these requests, or unless the registrants withdraw their requests. If these requests are granted, any sale, distribution, or use of products listed in this notice will be permitted after the affected registrations have been cancelled or uses terminated only if such sale, distribution, or use is consistent with the terms described in the final cancellation order.

DATES: Comments must be received on or before August 7, 2015.

ADDRESSES: Submit your comments, identified by docket identification (ID) number EPA-HQ-OPP-2015-0296, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Khue Nguyen, Pesticide Re-Evaluation Division (7508P), Office of Pesticide Programs, Environmental Protection Agency, 1200 Pennsylvania Ave. NW., Washington, DC 20460-0001; telephone number: (703) 347-0248; email address: nguyen.khue@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests to Cancel and/or Amend Registrations to Terminate Uses

This notice announces receipt by EPA of requests from Syngenta Crop Protection, FMC Corporation, E. I. DuPont de Nemours and Company, Helena Chemical Company, Wellmark International, Ritter Chemical, Valent USA Corporation, Nufarm Americas, Nichino America, and Airgas USA to cancel certain product registrations and amend registrations to terminate certain uses of certain product registrations.

Carfentrazone-ethyl is a post-emergent herbicide registered for use to control broadleaf weeds in various agricultural crops, turf, aquatic areas, and industrial and utility sites. Paraquat dichloride is an herbicide registered to control weeds and grasses and as a desiccant/harvest aid in many agricultural and non-agricultural areas, including in/on vegetables, grains, cotton, grasses, fruit crops, trees, vines, and commercial buildings. In a letter to EPA dated January 6, 2015, Syngenta Crop Protection requested the cancellation of one product registration containing paraquat dichloride and one product registration containing both carfentrazone-ethyl and paraquat dichloride identified in Table 1 of Unit III. This request will not terminate the last carfentrazone-ethyl or paraquat dichloride products registered in the United States.

Chlorsulfuron is a pre- and post-emergent herbicide registered for use to control a variety of weeds on cereal grains, pasture and rangeland, industrial sites, and turf grass. In a letter to EPA dated April 20, 2015, E. I. DuPont de Nemours and Company requested that EPA cancel one product registration containing chlorsulfuron identified in Table 1 of Unit III. DuPont noted that it no longer sells or markets this registration and there were no existing stocks in the channels of trade, and therefore no existing stocks provision is requested. This request will not terminate the last chlorsulfuron pesticide products registered in the United States.

Dichlorprop-p is an herbicide registered for use to kill annual and perennial broadleaf weeds on ornamental lawns, recreational turf, sports fields, sod farms, roadsides, industrial sites, rights-of-ways, and forests. In a letter to EPA dated February 27, 2015, Nufarm Americas, Inc., requested that EPA cancel two product registrations containing dichlorprop-p identified in Table 1 of Unit III. This request will not terminate the last dichlorprop-p pesticide products registered in the United States.

Flufenpyr-ethyl is an herbicide registered for post-emergence control of broadleaf weeds in field corn, soybeans, and sugarcane. In a letter to EPA dated March 19, 2015, Valent USA Corporation requested that EPA cancel two product registrations containing flufenpyr-ethyl identified in Table 1 of Unit III because Valent no longer wished to support this active ingredient. Valent noted in an email to EPA dated April 24, 2015, that these product registrations were never manufactured and there were no existing stocks in the channels of trade, therefore no existing stocks provision is requested. This request will terminate the last flufenpyr-ethyl pesticide products in the United States.

Flutolanil is a systemic fungicide registered for use to control fungal diseases in certain food crops, including peanuts, potatoes, and rice and non-food sites such as turf, greenhouses, and ornamentals. In a letter to EPA dated March 31, 2015, Nichino America requested the cancellation of one Special Local Need (SLN) product registration identified in Table 1 of Unit III. Nichino requested cancellation of this registration because it was replaced by a more recently registered, identical SLN product under another registration number. This request will not terminate the last flutolanil pesticide products in the United States.

Glyphosate is a non-selective herbicide registered for use on many food and non-food crops as well as in non-crop areas. In a letter to EPA dated December 12, 2014, Ritter Chemical requested the cancellation of three products containing glyphosate identified in Table 1 of Unit III. This request will not terminate the last glyphosate products registered in the United States.

Malathion is a broad-spectrum organophosphate insecticide registered for use on various food and feed crops and in various non-agricultural settings including residential outdoor settings, ornamental nursery stock, building perimeters, pastures and rangeland, and as part of regional pest eradication programs. In a letter to EPA dated April 14, 2015, Helena Chemical Company requested to amend its registration to terminate a use from a pesticide product registration identified in Table 2 of Unit III. Specifically, Helena requested amendment to terminate use on cull fruits and vegetable dumps because it no longer wished to support this use. This request will not terminate the last malathion products registered in the United States for these uses.

Metsulfuron is a sulfonylurea herbicide registered for use to control annual and perennial broadleaf weeds in certain agricultural, non-crop, and industrial areas, pasture and rangeland, turf, forestry, and marshes and wetland areas. Thifensulfuron-methyl and tribenuron-methyl are sulfonylurea herbicides registered for use on cereal grains, oilseed crops, soybeans, and cotton to control broadleaf weeds. In a letter to EPA dated April 20, 2015, E. I. DuPont de Nemours and Company requested the cancellation of one product containing metsulfuron, thifensulfuron-methyl, and tribenuron-methyl identified in Table 1 of Unit III. DuPont noted that it no longer sells or markets this registration and there were no existing stocks in the channels of trade, and therefore no existing stocks provision is requested. This request will not terminate the last metsulfuron, thifensulfuron-methyl, and tribenuron-methyl pesticide products registered in the United States.

Propoxur and pyrethrins are insecticides registered for use by pest control operators to kill a variety of insects including crickets, ants, cockroaches, silverfish and other pests. MGK 264 and piperonyl butoxide are insecticide synergists, which are designed to enhance the toxicity of other pesticides. These chemicals are registered for use in and around industrial, institutional, commercial (including food handling establishments and food processing plants), and residential facilities. In a letter to EPA dated February 6, 2015, Wellmark International requested that EPA cancel the propoxur, pyrethrins, MGK 264, and piperonyl butoxide pesticide product identified in Table 1 of Unit III. In a separate letter, dated February 6, 2015, Wellmark International requested to amend the propoxur, pyrethrins, MGK 264, and piperonyl butoxide pesticide product registrations identified in Table 2 of Unit III to terminate certain uses and certain formulation types. Specifically, Wellmark International requested that the following uses and formulations be terminated: All indoor aerosol, spray, and liquid formulations of propoxur; its use in food handling establishments; and indoor crack and crevice use. Wellmark International's requests will not terminate the last propoxur, pyrethrins, MGK 264, or piperonyl butoxide products registered in the United States, or the last propoxur, pyrethrins, MGK 264, or piperonyl butoxide pesticide products registered in the United States for these formulations or uses.

Quizalofop is a systemic herbicide registered for use to control annual and perennial weeds in various food/feed and non-food/non-feed crops. Food and feed uses include grains, legumes, cotton, garlic, soybean, and sugar beets. Non-food, non-feed uses include cottonwood and poplar plantations and uncultivated areas such as fencerows, roadsides, and paved areas. In a letter to EPA dated May 15, 2015, FMC Corporation requested the cancellation of one quizalofop product identified in Table 1 of Unit III. This request will not terminate the last quizalofop products registered in the United States.

Sulfur dioxide is a fungicide registered for use to control fungal disease on grapes. Sulfur dioxide products are formulated as a compressed liquid that converts to gas upon release and is registered for use in cold-storage warehouses, trucks, vans, and train cars for post-harvest grape fumigation. In a letter to EPA dated April 13, 2015, Airgas USA requested to amend its registration to terminate the use on grapes for the pesticide product registration identified in Table 2 of Unit III. Airgas no longer wished to support use on grapes. This request will not terminate the last sulfur dioxide products registered in the United States for this use.

III. What action is the agency taking?

This notice announces receipt by EPA of requests from registrants to cancel certain product registrations of carfentrazone-ethyl, chlorsulfuron, dichlorprop-p, flufenpyr-ethyl, flutolanil, glyphosate, metsulfuron, paraquat dichloride, propoxur, quizalofop, thifensulfuron-methyl, and tribenuron-methyl and terminate certain uses of malathion, propoxur, and sulfur dioxide product registrations. The affected products and the registrants making the requests are identified in Tables 1-3 of this unit.

Unless a request is withdrawn by the registrant or if the Agency determines that there are substantive comments that warrant further review of these requests, EPA intends to issue an order canceling the affected registrations and amending to terminate certain uses the affected registrations for which the Agency received use termination requests.

Table 1—Carfentrazone-ethyl, Chlorsulfuron, Dichlorprop-p, Flufenpyr-ethyl, Flutolanil, Glyphosate, Metsulfuron, MGK 264, Paraquat Dichloride, Piperonyl butoxide, Propoxur, Pyrethrins, Quizalofop, Thifensulfuron-methyl, and Tribenuron-methyl Product Registrations With Requests for Cancellation
Registration number | Product name | Chemical name
100-1217 | Gramoxone Inteon | Paraquat dichloride.
100-1316 | Cyclone Star | Carfentrazone-ethyl, paraquat dichloride.
279-3183 | Matador Herbicide | Quizalofop-p-ethyl.
352-522 ᵃ | DuPont Glean Fertilizer Compatible Herbicide | Chlorsulfuron.
352-586 ᵃ | DuPont Canvas Herbicide | Metsulfuron, thifensulfuron, tribenuron-methyl.
2724-819 | Pyrocide Pressurized Ant & Roach Spray | Propoxur, pyrethrins, piperonyl butoxide, MGK 264.
9468-33 | Kull 41 S | Glyphosate.
9468-34 | Kull 62 MUP | Glyphosate.
9468-35 | Kull TGAI Glyphosate | Glyphosate.
59639-109 ᵃ | Flufenpyr-ethyl Technical | Flufenpyr-ethyl.
59639-110 ᵃ | S-3153 WDG Herbicide | Flufenpyr-ethyl.
70596-6 | Dichlorprop-p Technical | Dichlorprop-p.
70596-13 | Dichlorprop-p (Technical Grade) | Dichlorprop-p.
NV020006 | Moncut 70-DF | Flutolanil.
ᵃ There are no existing stocks of these product registrations and no requests for existing stocks provisions. Therefore no existing stocks provision will be provided for these product registrations.

Table 2—Malathion, Propoxur, and Sulfur Dioxide Product Registrations With Requests for Amendment To Terminate One or More Uses
Registration number | Product name | Chemical name | Uses to be terminated
2724-818 | Pyrocide Intermediate 7045 | Propoxur, MGK 264, piperonyl butoxide, pyrethrins | Indoor aerosol, spray, and liquid formulations; use in food handling establishments and indoor crack and crevice use.
2724-820 | Propoxur Technical Insecticide | Propoxur | Indoor aerosol, spray, and liquid formulations; use in food handling establishments and indoor crack and crevice use.
2724-821 | Propoxur 70% Concentrate | Propoxur | Indoor aerosol, spray, and liquid formulations; use in food handling establishments and indoor crack and crevice use.
5905-250 | Fyfanon 8 lb. Emulsion | Malathion | Cull fruits and vegetable dumps.
89867-2 | Airgas Sulfur Dioxide | Sulfur dioxide | Grapes.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA Company number | Company name and address
100 | Syngenta Crop Protection, LLC, P.O. Box 18300, Greensboro, NC 27419.
279 | FMC Corporation, 1735 Market Street, Philadelphia, PA 19103.
352 | E.I. DuPont de Nemours and Company, 1007 Market St., Wilmington, DE 19898.
5905 | Helena Chemical Company, 7664 Smythe Farm Road, Memphis, TN 38120.
2724 | Wellmark International, 1501 E. Woodfield Road, Suite 200, West Schaumburg, IL 60173.
9468 | Ritter Chemical, LLC, 9300 Baythorne Dr., Houston, TX 77041.
59639 | Valent USA Corporation, 1600 Riviera Avenue, Suite 200, Walnut Creek, CA 94596.
70596 | Nufarm Americas, Inc., 4020 Aerial Center Parkway, Suite 101, Morrisville, NC 27560.
71711 | Nichino America, Inc., 4550 New Linden Hill Road, Suite 501, Wilmington, DE 19808.
89867 | Airgas USA, LLC, 7217 Lancaster Pike, Suite A, P.O. Box 640, Hockessin, DE 19707.

IV. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The carfentrazone-ethyl, chlorsulfuron, dichlorprop-p, flufenpyr-ethyl, flutolanil, glyphosate, malathion, metsulfuron, paraquat dichloride, quizalofop, sulfur dioxide, thifensulfuron-methyl, tribenuron-methyl registrants have requested that EPA waive the 180-day comment period. Accordingly, EPA will provide a 30-day comment period on the proposed product cancellations and use terminations. Because propoxur is not registered for any minor agricultural uses, this 180-day comment provision does not apply, and EPA is providing a 30-day comment period on the proposed propoxur product cancellations and use terminations.

V. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1 and 2 of Unit III.

A. For Products 352-522, 352-586, and 59639-109 Identified in Table 1 of Unit III

The registrants reported to the Agency via written correspondence that there are no existing stocks of EPA registration numbers 352-522, 352-586, and 59639-109. Therefore, no existing stocks provision was requested by or is needed for these registrants. The registrants will be prohibited from selling or distributing these products upon cancellation of these products, except for export consistent with FIFRA section 17 (7 U.S.C. 136o) or for proper disposal.

Persons other than registrants will generally be allowed to sell, distribute, or use existing stocks of the affected products until such stocks are exhausted, provided that such sale, distribution, or use is consistent with the terms of the previously approved labeling on, or that accompanied, the canceled product.

B. For All Other Products Identified in Table 1 of Unit III

For the other voluntary product cancellations noted in Table 1 of Unit III, the registrants will be permitted to sell and distribute existing stocks of voluntarily canceled products for 1 year after the effective date of the cancellation, which will be the date of publication of the cancellation order in the Federal Register. Thereafter, registrants will be prohibited from selling or distributing the products identified in Table 1 of Unit III., except for export consistent with FIFRA section 17 (7 U.S.C. 136o) or for proper disposal.

Persons other than the registrant may sell, distribute, or use existing stocks of the affected canceled products until supplies are exhausted, provided that such sale, distribution, or use is consistent with the terms of the previously approved labeling on, or that accompanied, the canceled products.

C. For All Products Identified in Table 2 of Unit III

Once EPA has approved product labels reflecting the requested amendments to terminate uses for the products identified in Table 2 of Unit III, registrants will be permitted to sell or distribute products under the previously approved labeling for a period of 18 months after the date of Federal Register publication of the cancellation order, unless other restrictions have been imposed. Thereafter, registrants will be prohibited from selling or distributing the products whose labels include the terminated uses identified in Table 2 of Unit III., except for export consistent with FIFRA section 17 or for proper disposal.

Persons other than the registrant may sell, distribute, or use existing stocks of the products whose labels include the terminated uses until supplies are exhausted, provided that such sale, distribution, or use is consistent with the terms of the previously approved labeling on, or that accompanied, the products with the terminated uses.

Authority: 7 U.S.C. 136 et seq.

Dated: June 29, 2015.
Richard P. Keigwin, Jr.,
Director, Pesticide Re-Evaluation Division, Office of Pesticide Programs.

[FR Doc. 2015-16405 Filed 7-1-15; 8:45 am]

BILLING CODE 6560-50-P